ENVIRONMENTAL PROTECTION AGENCY

[FRL-9094-2; Docket ID No. EPA-HQ-ORD-2009-0791]

Draft Toxicological Review of Trichloroethylene: In Support of the Summary Information in the Integrated Risk Information System (IRIS)

AGENCY: Environmental Protection Agency (EPA).

ACTION: Notice of Listening Session; correction.

SUMMARY: The Environmental Protection Agency published a document in the Federal Register on December 11, 2009, concerning a listening session to be held during a public comment period for the external review draft document entitled “Toxicological Review of Trichloroethylene: In Support of Summary Information on the Integrated Risk Information System (IRIS).”

FOR FURTHER INFORMATION CONTACT: Christine Ross, IRIS Staff, National Center for Environmental Assessment, (8601P), U.S. EPA, 1200 Pennsylvania Avenue, NW., Washington, DC 20460; telephone: 703-347-8592; facsimile: 703-347-8689; or e-mail: ross.christine@epa.gov.

Correction

In the Federal Register of December 11, 2009, in FR Doc. -9091-1, on page 65775, in the first, second, and third columns correct the dates to read:

SUMMARY: EPA is announcing a listening session to be held on January 26, 2010, during the public comment period for the external review draft document entitled, “Toxicological Review of Trichloroethylene: In Support of Summary Information on the Integrated Risk Information System (IRIS)” (EPA/635/R-09/011A).

DATES: The listening session on the draft IRIS health assessment for trichloroethylene will be held on January 26, 2010, beginning at 9 a.m. and ending at 4 p.m., Eastern Standard Time. If you want to make a presentation at the listening session, you should register by January 19, 2010, indicate that you wish to make oral comments at the session, and indicate the length of your presentation. If no speakers have registered by January 19, 2010, the listening session will be cancelled and EPA will notify those registered of the cancellation.

ADDRESSES: To attend the listening session, register by Tuesday, January 19, 2010, via the Internet at https://www2.ergweb.com/projects/conferences/peerreview/register-tce.htm.

Dated: December 14, 2009.
Rebecca Clark,
Acting Director, National Center for Environmental Assessment.

[FR Doc. E9-30257 Filed 12-18-09; 8:45 am]

BILLING CODE 6560-50-P